DEPARTMENT OF THE TREASURY

Departmental Offices

Delegation of Authority to the Director, Office of Foreign Assets Control

AGENCY: Departmental Offices, Treasury.

ACTION: Notice.

DATES: Treasury Department Order 100-15 became effective on March 20, 2003.

SUMMARY: On March 20, 2003, the Secretary of the Treasury issued Treasury Department Order 100-15 in order to delegate to the Director, Office of Foreign Assets Control, subject to any terms and conditions that the President or Secretary might prescribe, the authority to perform any and all acts incident to the accomplishment or furtherance of an order vesting property as directed in the Executive order signed by the President dated March 20, 2003, “Confiscating and Vesting Certain Iraqi Property,” or by the Secretary pursuant to that order.

SUPPLEMENTARY INFORMATION: The text of Treasury Department Order 100-15 follows.

Dated: March 21, 2003.
Richard S. Carro,
Senior Advisor to the General Counsel, (Regulatory Affairs).

Treasury Department Order No. 100-15

Delegation to the Director, Office of Foreign Assets Control, subject to any terms and conditions that the President or Secretary of the Treasury may prescribe, the authority to perform any and all acts incident to the accomplishment or furtherance of an order vesting property as directed in the Executive order signed by the President dated March 20, 2003, “Confiscating and Vesting Certain Iraqi Property,” or by the Secretary of the Treasury pursuant to that order.

Treasury Department, Washington, DC, March 20, 2003.

In the Executive order signed by the President dated March 20, 2003, “Confiscating and Vesting Certain Iraqi Property,” the President vested in the United States Department of the Treasury all right, title, and interest in blocked funds held in the United States in certain accounts in the name of the Government of Iraq, the Central Bank of Iraq, Rafidain Bank, Rasheed Bank, or the State Organization for Marketing Oil. In that order, the President also authorized me to take additional steps to carry out the purposes of the order.

By virtue of the authority vested in the Secretary of the Treasury, including the authority granted by 31 U.S.C. 321(b) and by the Executive order signed by the President dated March 20, 2003, “Confiscating and Vesting Certain Iraqi Property,” I hereby delegate to the Director, Office of Foreign Assets Control, subject to any terms and conditions that the President or I may prescribe, the authority to perform any and all acts incident to the accomplishment or furtherance of an order vesting property as directed in the Executive order signed by the President dated March 20, 2003, “Confiscating and Vesting Certain Iraqi Property,” or by me pursuant to that order.

John W. Snow,

Secretary of the Treasury.

[FR Doc. 03-7302 Filed 3-25-03; 8:45 am]

BILLING CODE 4810-25-P